DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, no later than December 12, 2016.

Interested persons are invited to submit written comments regarding the subject matter of the investigations to the Director, Office of Trade Adjustment Assistance, at the address shown below, not later than December 12, 2016.

The petitions filed in this case are available for inspection at the Office of the Director, Office of Trade Adjustment Assistance, Employment and Training Administration, U.S. Department of Labor, Room N-5428, 200 Constitution Avenue NW., Washington, DC 20210.

Signed at Washington, DC, this 18th day of November 2016.
Hope D. Kinglock,
Certifying Officer, Office of Trade Adjustment Assistance.

Appendix
[41 TAA petitions instituted between 9/5/16 and 9/16/16]
TA-W | Subject firm (petitioners) | Location | Date of institution | Date of petition
92176 | Delphi Automotive Systems, LLC (State/One-Stop) | Warren, OH | 09/06/16 | 09/02/16
92177 | Berry Plastics Corporation (Workers) | Dunkirk, NY | 09/07/16 | 09/06/16
92178 | Micron Technology (Workers) | Longmont, CO | 09/07/16 | 09/06/16
92179 | Nortech Systems, Inc. (Company) | Augusta, WI | 09/07/16 | 09/06/16
92180 | Zodiac Seat Shells US LLC (Company) | Santa Maria, CA | 09/07/16 | 09/06/16
92181 | Carpenter Company (State/One-Stop) | Lathrop, CA | 09/07/16 | 07/25/16
92182 | Calvert City Mill (State/One-Stop) | Calvert City, KY | 09/07/16 | 09/06/16
92183 | Applied Materials (State/One-Stop) | Austin, TX | 09/07/16 | 09/06/16
92184 | TE Connectivity (Company) | Middletown, PA | 09/08/16 | 09/07/16
92185 | Ashley Furniture Industries, Inc. (State/One-Stop) | Colton, CA | 09/08/16 | 09/07/16
92186 | BHP Billiton Petroleum (State/One-Stop) | Houston, TX | 09/08/16 | 09/06/16
92187 | Alcoa Fastening Systems and Rings (State/One-Stop) | Fontana, CA | 09/08/16 | 09/07/16
92188 | TMS International (Union) | Granite City, IL | 09/08/16 | 09/07/16
92189 | GE Energy Power Conversion US, Inc. (Workers) | Pittsburgh, PA | 09/08/16 | 09/07/16
92190 | VTI of Indiana Doors, Inc. (State/One-Stop) | New Albany, IN | 09/08/16 | 08/31/16
92191 | East Moline Products Company (Company) | East Moline, IL | 09/09/16 | 09/08/16
92192 | Magna Techform of America (Company) | Portland, TN | 09/09/16 | 09/08/16
92193 | White Pine Electric Power, LLC (Company) | White Pine, MI | 09/12/16 | 09/09/16
92194 | Marine Spill Response Corporation (Workers) | Portland, ME | 09/12/16 | 09/09/16
92195 | Daimler Trucks North America LLC (Union) | Mt. Holly, NC | 09/12/16 | 08/18/16
92196 | Volt Workforce Solutions (State/One-Stop) | Indianapolis, IN | 09/12/16 | 09/09/16
92197 | Kohler Company (Company) | Union City, TN | 09/12/16 | 09/10/16
92198 | Ericsson (State/One-Stop) | Plano, TX | 09/12/16 | 09/12/16
92199 | Dell, Inc. dba Dell Financial Services, L.P. (State/One-Stop) | Round Rock, TX | 09/12/16 | 09/12/16
92200 | Celestica, Inc. (State/One-Stop) | Ontario, CA | 09/13/16 | 09/12/16
92201 | SMA America Production, LLC (Workers) | Denver, CO | 09/13/16 | 09/12/16
92202 | New York Life Insurance Company (State/One-Stop) | Lebanon, NJ | 09/13/16 | 08/15/16
92203 | Chanel, Inc. (State/One-Stop) | Piscataway Township, NJ | 09/13/16 | 08/30/16
92204 | Sanofi US Services Inc. (State/One-Stop) | Bridgewater, NJ | 09/13/16 | 08/30/16
92205 | CTS Corporation (State/One-Stop) | Elkhart, IN | 09/14/16 | 09/13/16
92206 | Massachusetts Mutual Life Insurance Company (State/One-Stop) | Springfield, MA | 09/14/16 | 09/13/16
92207 | International Business Machines Corporation (IBM) (State/One-Stop) | Rochester, MN | 09/14/16 | 09/13/16
92208 | HUSCO International (Company) | Waukesha, WI | 09/15/16 | 09/14/16
92209 | Dental Invisions, Inc. (Company) | Delray Beach, FL | 09/15/16 | 09/14/16
92210 | Maritime Association (State/One-Stop) | Crystal Bay, NV | 09/15/16 | 09/14/16
92211 | Petram Enterprises Inc.—dba Construction Equipment Company (State/One-Stop) | Tualatin, OR | 09/15/16 | 09/14/16
92212 | ITT Technical (Workers) | Dearborn, MI | 09/16/16 | 09/09/16
92213 | Chubb & Sons (State/One-Stop) | Warren, NJ | 09/16/16 | 09/15/16
92214 | Quantum Spatial, Inc. (State/One-Stop) | Various, | 09/16/16 | 09/15/16
92215 | Epicor Software Corporation (State/One-Stop) | Dublin, CA | 09/16/16 | 09/15/16
92216 | Norton Industries, Inc. (State/One-Stop) | Hayward, CA | 09/16/16 | 09/15/16

[FR Doc. 2016-28909 Filed 12-1-16; 8:45 am]

BILLING CODE 4510-FN-P